ENVIRONMENTAL PROTECTION AGENCY

[ER-FRL-9000-4]

Environmental Impacts Statements; Notice of Availability

Responsible Agency: Office of Federal Activities, General Information (202) 564-1399 or http://www.epa.gov/compliance/nepa/.

Weekly receipt of Environmental Impact Statements

Filed 11/28/2011 through 12/02/2011

Pursuant to 40 CFR 1506.9.

Notice

Section 309(a) of the Clean Air Act requires that EPA make public its comments on EISs issued by other Federal agencies. EPA's comment letters on EIS are available at: http://www.epa.gov/compliance/nepa/eisdata.html.

EIS No. 20110409, Final EIS, BLM, NM,Taos Resource Management Plan, To Provide Broad-Scale Guidance for the Management of Public Lands and Resource Administered by Taos Field Office, Colfax, Harding, Los Alamos, Mora, Rio Arriba, Santa Fe, Taos and Union Counties, NM, Review PeriodEnds: 01/09/2012, Contact: Brad Higdon (575) 751-4725.

EIS No. 20110410, Draft EIS, FAA, CA,Gnoss Field Airport Project, Proposed Extension to Runway 13/31/, Funding, Marin County, CA, Comment Period Ends:02/06/2012, Contact: Doug Pomeroy (680) 827-7612.

EIS No. 20110411, Final Supplement, USFS, 00,Programmatic—Kootenai, Idaho Panhandle, and Lolo National Forest Plan Amendments for Access Management within the Selkirk and Cabinet-Yaak Grizzly Bear Recovery Zones, Alternative E Updated has been Identified as the Forest Service's Preferred Alternative, ID, WA, MT, Review Period Ends: 01/09/2012, Contact: Kark Dekome (208) 765-7479.

EIS No. 20110412, Final EIS, USFS, CA,Lake Tahoe Basin Management Unit South Shore Fuel Reduction and Healthy Forest Restoration, To Manage Fuel Reduction and Forest health in the Wildland Urban Intermit (WUI), El Dorado County, CA, Review Period Ends: 01/09/2012, Contact: Duncan Leao (530) 543-2660.

EIS No. 20110413, Final EIS, BR, CO,Windy Gap Firming Project, Construct a New Water Storage Reservoir to Deliver Water to Front Range and West Slope Communities and Industries, Funding, NPDES and US Army COE Section 404 Permit, Grand and Larimer Counties, CO, ReviewPeriod Ends: 01/09/2012, Contact: Lucy Maldonado (970) 962-4369.

EIS No. 20110414, Draft EIS, NOAA, 00,Amendment 18A to the Fishery Management Plan for the Snapper-Grouper Fishery of the South Atlantic Region, To Limit Participation and Effort in the Black Sea Bass Pot Fishery, South Atlantic Region, NC, SC FL and GA, Comment Period Ends:01/23/2012, Contact: Roy E. Crabtree (727) 824-5301.

EIS No. 20110415, Final EIS, RUS, GA,Biomass Power Plant Project, Application for Financial Assistance To Construction 100 Megawatt (MW) Biomass Plant and Related Facilities, Warren County, GA, Review Period Ends:01/09/2012, Contact: Stephanie A Strength (970) 403-3559.

EIS No. 20110416, Final EIS, USACE, FL,Everglades Restoration Transition Plan (ERTP), To Defined Water Management Operating Criteria for Central and Southern Florida Project (C&SF) features and the Constructed features of the Modified Water Deliveries and Canal-III Project until a Combined Operational Plan is Implemented, Broward and Miami-Dade Counties, FL, Review Period Ends: 01/16/2012, Contact: Dr. Gina Paduano Ralph (904) 232-2336.

Amended Notices

EIS No. 20110381, Draft EIS, WAPA, AZ,Quartzsite Solar Energy Project and Proposed Yuma Field Office Resource Management Plan Amendment, Implementation, Right-of-Way Application to the BLM, La Paz County, AZ, CommentPeriod Ends: 02/10/2012, Contact: Liana Reilly (720) 962-7253. Revision to FR Notice 11/10/2011: Extending Comment from 02/08/2012 to 02/10/2012.

Dated: December 6, 2011.
Cliff Rader,
Director, NEPA Compliance Division, Office of Federal Activities.

[FR Doc. 2011-31670 Filed 12-8-11; 8:45 am]

BILLING CODE 6560-50-P